DEPARTMENT OF AGRICULTURE

Submission for OMB Review; Comment Request

August 26, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by October 1, 2015 will be considered. Written comments should be addressed to: Desk Officer for Agriculture, Office of Information and Regulatory Affairs, Office of Management and Budget (OMB), New Executive Office Building, 725—17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Organic Certifier Survey.

OMB Control Number: 0535-NEW.

Summary of Collection: Data will be collected under the authority of 7 U.S.C. 2204(a). Individually identifiable data collected under this authority are governed by Section 1770 of the Food Security Act of 1985, 7 U.S.C. 2276, which requires the Department of Agriculture to afford strict confidentiality to non-aggregated data provided by respondents. The sample size will consist of all organizations that certify farm and ranch operations that have met the Federal standards to be classified as organic producers. The data collection will be done in a two step process. The first step will involve a personal visit with the managers of the certifying organizations to discuss the data collection needs and collect some basic profile information. The second step will involve the compiling and reporting of the data.

Need and Use of the Information: The survey will collect the number of operations that are certified organic for each State, along with the number of acres certified for the various crops, and the number of head of livestock and poultry certified as organic. These data are necessary on an annual basis for USDA to provide annual data and analysis of this growing industry. Farmers, consumers, shippers, packers, retailers, wholesalers, etc. all need these data to make informed decisions.

Description of Respondents: Organic certifying organizations.

Number of Respondents: 55.

Frequency of Responses: Reporting: Annually.

Total Burden Hours: 885.

Charlene Parker,
Departmental Information Collection Clearance Officer.

[FR Doc. 2015-21558 Filed 8-31-15; 8:45 am]

BILLING CODE 3410-20-P